DEPARTMENT OF HOMELAND SECURITY

Coast Guard

33 CFR Part 165

[Docket No. USCG-2019-0084]

Safety Zone; Lower Mississippi River, Mile Markers 93 to 96 Above Head of Passes, New Orleans, LA

AGENCY: Coast Guard, DHS.

ACTION: Notice of enforcement of regulation.

SUMMARY: The Coast Guard will enforce a safety zone for a fireworks display located between mile marker (MM) 93 and MM 96, above Head of Passes, Mississippi River. This action is needed to provide for the safety of life on navigable waterways during the Riverwalk Marketplace/Lundi Gras Fireworks event.

DATES: The regulations in 33 CFR 165.801, Table 5, line 1 will be enforced from 6 p.m. through 7 p.m. on March 4, 2019.

FOR FURTHER INFORMATION CONTACT: If you have questions about this notice of enforcement, call or email Lieutenant Commander Benjamin Morgan, Sector New Orleans, U.S. Coast Guard; telephone 504-365-2281, email Benjamin.P.Morgan@uscg.mil.

SUPPLEMENTARY INFORMATION: The Coast Guard will enforce the safety zone described in 33 CFR 165.801, Table 5, line 1, as the Riverwalk Marketplace/Lundi Gras Fireworks Display event from 6 p.m. through 7 p.m. on March 4, 2019. This action is being taken to provide for the safety of life on navigable waterways during this event. Our regulation for marine events within the Eighth Coast Guard District, § 165.801, specifies the location of the regulated area for the Riverwalk Marketplace/Lundi Gras Fireworks Display between mile markers 93 and 96 on the Mississippi River near New Orleans, Louisiana. During the enforcement period, as reflected in § 165.801(a)-(d), if you are the operator of a vessel in the safety zone, you must comply with directions from the Captain of the Port or a designated representative.

In addition to this notice of enforcement in the Federal Register, the Coast Guard plans to provide notification of this enforcement period via the local notice to mariners and marine information broadcasts.

Dated: February 20, 2019.
K.M. Luttrell,
Captain, U.S. Coast Guard, Captain of the Port Sector New Orleans.

[FR Doc. 2019-03253 Filed 2-25-19; 8:45 am]

BILLING CODE 9110-04-P